DEPARTMENT OF STATE

[Public Notice 6604]

Notice of Meeting

Title: Notification of a Public Meeting on Section 202 of the William Wilberforce Trafficking Victims Protection Reauthorization Act of 2008 (Pub. L. 110-457).

SUMMARY: The U.S. Department of State is holding a public meeting on Thursday, May 21, 2009 at 1 p.m. at the Department of State, 2201 C Street, NW., Washington, DC 20520, in the Loy Henderson Auditorium. The purpose of the meeting is to allow non-governmental organizations, and others with expertise on the legal rights of workers and victims of severe forms of trafficking in persons, to provide their expertise and input into the development and distribution of an information pamphlet on the legal rights and resources for aliens applying for employment- or education-based nonimmigrant visas. This is pursuant to the William Wilberforce Trafficking Victims Protection Reauthorization Act of 2008, specifically section 202, Protections for domestic workers and other nonimmigrants. This Act defines “employment- or education-based nonimmigrant visa” as a nonimmigrant visa issued under subparagraph (A)(iii), (G)(v), (H), or (J) of section 101(a)(15) of the Immigration and Nationality Act (8 U.S.C. 1101(a)(15)); and any nonimmigrant visa issued to a personal or domestic servant who is accompanying or following to join an employer. Organizations or individuals may also submit written comments to be considered by the Department of State as it develops this information pamphlet.

DATES: RSVP for the Public Meeting must be sent by COB May 18, 2009 to Dabrina Wills at: WillsDE2@state.gov in order to facilitate the security clearance process for entry into the Department of State. RSVP must include name, date of birth, and either a driver's license number or passport number; and any request for reasonable accommodation, if applicable. Requests for reasonable accommodation received after May 14 will be considered but might not be possible to fill. Attendees will use the C Street Entrance. Written comments must be submitted on or before May 25, 2009.

ADDRESSES: You may submit written comments to: TVPRAinfopamphlet@state.gov or, if you have access to the internet, you may submit written comments electronically at the following address: http://www.regulations.gov/search/index.jsp. Please note that comments posted on regulations.gov will be accessible to the general public.

FOR FURTHER INFORMATION CONTACT: Amy O'Neill Richard, Office To Monitor and Combat Trafficking in Persons, U.S. Department of State, oneillaw@state.gov or (202) 312-9642

SUPPLEMENTARY INFORMATION:

Background

The William Wilberforce Trafficking Victims Protection Reauthorization Act of 2008 (Pub. L. 110-457), section 202, Protections for domestic workers and other nonimmigrants, calls for the development and distribution of an information pamphlet on the legal rights and resources for aliens applying for employment- or education-based nonimmigrant visas, as defined in the Act. The contents of the information pamphlet will include information on the nonimmigrant visa application process; the legal rights of employment- or education-based nonimmigrant visa holders under Federal immigration, labor, and employment law; the illegality of slavery, peonage, trafficking in persons, sexual assault, extortion, blackmail, and worker exploitation in the United States; and the legal rights of immigrant victims of trafficking in persons and worker exploitation. It will also include information about non-governmental organizations that provide services for victims of trafficking in persons and worker exploitation.

Once completed, the information pamphlet will be translated into all relevant foreign languages to be determined by the Secretary of State based on the languages spoken by the greatest concentrations of employment- or education-based nonimmigrant visa applicants. The information will then be posted on federal Web sites and made available to any government agency, non-governmental advocacy organization, or foreign labor broker doing business in the United States. If Consular officers conducting interviews with aliens in these visa categories cannot confirm that the alien has received, read, and understood the contents of the pamphlet, then the Consular Officer will go over the contents of the pamphlet with the alien during the interview and answer any questions the alien may have concerning the information discussed.

Dated: April 30, 2009.
Nan Kennelly,
Acting Office Director, Office To Monitor and Combat Trafficking in Persons, Department of State.

[FR Doc. E9-10491 Filed 5-5-09; 8:45 am]

BILLING CODE 4710-17-P